DEPARTMENT OF THE INTERIOR

National Park Service

[NPS-WASO-NAGPRA-NPS0030957; PPWOCRADN0-PCU00RP14.R50000]

Notice of Inventory Completion: Santa Barbara Museum of Natural History, Santa Barbara, CA

AGENCY: National Park Service, Interior.

ACTION: Notice.

SUMMARY: The Santa Barbara Museum of Natural History has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Santa Barbara Museum of Natural History. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Santa Barbara Museum of Natural History at the address in this notice by November 2, 2020.

ADDRESSES: Luke Swetland, President and CEO, Santa Barbara Museum of Natural History, 2559 Puesta del Sol, Santa Barbara, CA 93105, telephone (805) 682-4711.

SUPPLEMENTARY INFORMATION: Notice is here given in accordance with the Native American Graves Protection and Repatriation Act (NAGPRA), 25 U.S.C. 3003, of the completion of an inventory of human remains and associated funerary objects under the control of the Santa Barbara Museum of Natural History, Santa Barbara, CA. The human remains and associated funerary objects were removed from Santa Barbara, Ventura, San Luis Obispo, and Los Angeles Counties, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Santa Barbara Museum of Natural History professional staff in consultation with representatives of the Santa Ynez Band of Chumash Mission Indians of the Santa Ynez Reservation, California and other Chumash representatives of non-federally recognized Indian groups.

History and Description of the Remains

Santa Barbara County

In 1925 and 1988, human remains representing, at minimum two individuals were removed by David Banks Rogers and G. Unzueta from Rincon Point (site CA-SBA-1). The individuals are represented by a partial cranium removed by Rogers and a partial skeleton removed by Unzueta. No known individuals were identified. No associated funerary objects are present. Based on artifact types, the site dates to Phase 2a of the Middle Period (approximately 2,100 to 1,800 years ago).

In 1928 and 1950, human remains representing, at minimum, four individuals were removed by David Banks Rogers and Phil Orr from Rincon Point (CA-SBA-119). The individuals are represented by crania, mandibles, fragmentary postcranial remains, and a tibia fragment. No known individuals were identified. The two associated funerary objects are one turtle shell and one lot of ochre-stained soil. The site dates to either the late Early Period (approximately 3,000 to 4,000 years ago) or Phase 1 of the Middle Period (approximately 2,500 to 2,100 years ago).

In June 1988, human remains representing, at minimum, seven individuals were removed by SBMNH staff and volunteers from Rincon Point, “Shuku” (site CA-VEN-62A), after trenching for construction behind a private residence. The individuals are represented by one complete skeleton, postcranial elements, a cranial fragment, an ilium fragment and tooth of a sub-adult, and teeth from one infant and one adult. No known individuals were identified. No associated funerary objects are present.

Sometime before 1935, human remains representing, at minimum, three individuals were removed from Higgins site (CA-SBA-6). L.M. Higgins, a property owner, donated the human remains of two individuals to the SBMNH in 1935. There is no data on when or by whom the third individual was removed. The individuals are represented by partial sets of human remains. No known individuals were identified. The 10 associated funerary objects are nine beads and one shell fragment.

In 1925 and 1949, human remains representing, at minimum, 34 individuals were removed from Carpinteria (site CA-SBA-7). David Banks Rogers excavated 28 individuals in 1925, and Phil C. Orr excavated two individuals in 1949, during salvage work. An additional four individuals from this site were discovered during physical examination of the collection. The human remains include 22 individuals represented by cranial elements, including one sub-adult; five individuals represented by partial sets of human remains; one individual represented by a humerus; two individuals represented by a group of cranial and minimal postcranial remains; and four individuals represented by a group of long bones and long bone fragments, including one sub-adult. No known individuals were identified. The seven associated funerary objects are one chert biface fragment; one sandstone bowl; one small pestle; one lot of red pigment; one chert knife; one chert chopper; and one sandstone mano.

Sometime before October of 1926, human remains representing, at minimum, two individuals were removed from “Kolok” (site CA-SBA-13). The individuals are represented by cranial elements. Mr. Kohlsadt, the property owner, donated the human remains to the SBMNH in October 1926. No known individuals were identified. No associated funerary objects are present.

Sometime before 1966, human remains representing, at minimum, one individual were removed by Susan Denny from Drake (site CA-SBA-14). Denny, the property owner, donated the human remains to the SBMNH in 1966. The individual is represented by a partial set of remains. No known individuals were identified. No associated funerary objects are present.

In 1924 and sometime before 1935, human remains representing, at minimum, 29 individuals were removed from Fernald Point (CA-SBA-17). David Banks Rogers excavated 28 individuals in 1924, and George Hammond donated one individual to the SBMNH in 1935. The human remains include 18 individuals represented by cranial elements, including one elderly individual; eight individuals represented by postcranial elements, including one sub-adult; and three individuals represented by cranial and postcranial elements. No known individuals were identified. No associated funerary objects are present.

Between 1933 and 1934, human remains representing, at minimum, six individuals were removed by David Banks Rogers from Clark Estate (site CA-SBA-20). Five individuals are represented by partial sets of remains, one of which consist only of postcranial elements. One individual is represented by cranial elements. No known individuals were identified. No associated funerary objects are present.

In 1924, 1989, and 1992, human remains representing, at minimum, three individuals were removed from “Syuxtun” site (CA-SBA-27). David Banks Rogers excavated one individual in 1924. Further excavations were conducted by Cultural Resources Management professionals in 1989 and 1992. The individuals are represented by cranial and postcranial elements. No known individuals were identified. No associated funerary objects are present.

In 1970 and 1971, human remains representing, at minimum, nine individuals were removed from Burton Mound (site CA-SBA-28). The property owner and a third party removed three of the individuals during development of the site; students from Santa Barbara City College excavated five individuals during a field school; and one additional set of partial human remains were found, reported to police, and turned over to the museum in 2001. The human remains include one individual represented by a partial cranium; one individual represented by postcranial elements; six individuals represented by cranial and postcranial fragments, including one sub-adult; and one individual represented by a single tooth. No known individuals were identified. No associated funerary objects are present.

On various dates, human remains representing, at minimum, 18 individuals were removed from “Mispu” (site CA-SBA-30 and CA-SBA-31). David Banks Rogers, Phil C. Orr, Santa Barbara City college staff and students, and private parties conducted the excavations. The human remains include six individuals represented by cranial elements; two individuals represented by postcranial elements; eight individuals represented by cranial and postcranial elements; and two individuals represented by unidentified fragments. No known individuals were identified. The 185 associated funerary objects are: 23 shell beads; 101 shell fragments; seven shells; 15 shell barrel beads; eight bone fragments; one piece of asphaltum; one steatite tube; 24 visible shell beads (in soil matrix within cranium), four pieces of charcoal; and one fragment of worked bone.

In 1926, human remains representing, at minimum, one individual were removed by David Banks Rogers from Barger No. 1 (site CA-SBA-35). The individual is represented by a mandible fragment. No known individuals were identified. No associated funerary objects are present.

In July 1926, human remains representing, at minimum, one individual were removed from “Ushtahash” (site CA-SBA-37). This individual is represented by a cranium. No known individuals were identified. No associated funerary objects are present.

In 1924, human remains representing, at minimum, seven individuals were removed by David Banks Rogers from Modoc Road (site CA-SBA-38). Three individuals are represented by cranial elements and four individuals are represented by cranial and postcranial elements. No known individuals were identified. No associated funerary objects are present.

In 1936, human remains representing, at minimum, one individual were removed by Lee Ramirez from Cieneguitas (site CA-SBA-39), and were donated to the SBMNH in 1938. The individual is represented by a partial cranium. No known individuals were identified. The one associated funerary object is a single lead shot.

In June of 1933, human remains representing, at minimum, two individuals were removed by David Banks Rogers from Twin Mounds (site CA-SBA-45). The individuals are represented by phalanges and teeth. No known individuals were identified. The 292 associated funerary objects are: Six steatite disc beads; one fragmented polished bone hairpin; 10 strands of beads; 125 shell beads; 13 shell bead fragments; two tubular steatite beads; 134 shell beads and bangles; and one mother-of-pearl ornament.

In 1928, 1933, and 1941, human remains representing, at minimum, 45 individuals were removed from Mescalitan Island, “Helo” (site CA-SBA-46). Most of the human remains were excavated by Phil C. Orr, and some of the human remains were excavated by Harold E. Childes. The human remains include 15 individuals represented by complete or relatively complete skeletons, including one individual found interred atop an inlaid whale scapula and one individual identified as a child; three individuals represented by skeletons which have been preserved within a plaster jacket, two of whom are infants; 26 individuals represented by incomplete skeletons; and one individual represented by a cranium in which is embedded a projectile point. No known individuals were identified. The 7793 associated funerary objects are: 4807 Olivella biplicata beads; 58 Olivella biplicata bead fragments; 32 limpet beads; 63 limpet bead fragments; 22 abalone pendants; four cowry beads; 37 fish scales; 2279 shell fragments; 331 bone (faunal) fragments; 16 strands of shell beads; one lump of red ochre; 21 steatite beads; seven steatite ornaments; two steatite pendants; 24 Megathura crenulata ornaments; 22 inlaid bone tubes; 11 teeth inlaid with Olivella biplicata beads; four steatite bead blanks; 22 projectile points; one abalone ornament; three stone tube beads; 10 bifaces; five abalone beads; one turtle shell rattle; three shell beads; one steatite pipe with bone mouthpiece; one seed; one scraper; one quartz crystal; one grave marker made from whale bone; one steatite bowl; and one sandstone charmstone.

Sometime before the 1930s, human remains representing, at minimum, one individual were removed by Frank Williams and Robert Phelan from the south side of Goleta Slough (site CA-SBA-47). The individual is represented by a fragmented cranium. No known individuals were identified. No associated funerary objects are present.

In 1941, human remains representing, at minimum, two individuals were removed by Phil C. Orr from “Heliyik” (site CA-SBA-48). One individual is represented by an incomplete and fragmentary skeleton, and the second individual is represented by a partial cranium. No known individuals were identified. No associated funerary objects are present.

In 1941, human remains representing, at minimum, one individual were removed by Phil C. Orr from the Bishop site (CA-SBA-49). The individual is represented by a relatively complete cranium. No known individuals were identified. No associated funerary objects are present.

In 1925, human remains representing, at minimum, 17 individuals were removed by David Banks Rogers from Campbell No. 2 (site CA-SBA-52). The human remains include nine individuals represented by cranial elements; three individuals represented by postcranial elements; and five individuals represented by cranial and postcranial elements. No known individuals were identified. The two associated funerary objects are one Astrea undosa shell and one large Hinnites multirugosus shell.

In 1925, human remains representing, at minimum, one individual were removed by David Banks Rogers from Campbell No. 1 (site CA-SBA-53). The individual is represented by a rib fragment. No known individuals were identified. No associated funerary objects are present.

On an unknown date, human remains representing, at minimum, one individual were removed from Corona del Mar (site CA-SBA-54). No documentation accompanies these human remains. The individual is represented by a cranial fragment. No known individuals were identified. No associated funerary objects are present.

In 1925, human remains representing, at minimum, four individuals were removed by David Banks Rogers from William No. 2 (site CA-SBA-57). Three individuals are represented by cranial elements, and one individual is represented by cranial and postcranial elements. No known individuals were identified. The one associated funerary object is a “lemon-shaped” stone.

In 1925 and sometime between 1964 and 1966, human remains representing, at minimum, seven individuals were removed from Williams No. 1 (site CA-SBA-58). Four sets of human remains were excavated by David Banks Rogers and three sets of human remains were donated anonymously to the SBMNH in 1993. The human remains include two individuals represented by cranial elements; one individual represented by postcranial elements; and four individuals represented by both cranial and postcranial elements. No known individuals were identified. The two associated funerary objects are one tabular piece of siltstone bifacially flaked on one edge and one biface.

On an unknown date, human remains representing, at minimum, 11 individuals were removed from “S'axpilil” (site CA-SBA-60). Most of the human remains were excavated by Phil C. Orr. Two sets of human remains were given to Midland School, Los Olilvos, in 1970 by Mrs. Shepherd and were subsequently donated to the SBMNH in 2011 by Ben Munger. The individuals are represented by cranial and postcranial elements. No known individuals were identified. The 167 associated funerary objects are: One limpet ornament; one strand of Olivella biplicata beads; 113 Olivella biplicata beads; nine abalone beads and ornaments; two Olivella biplicata beads; one fluorite bead; 37 blue glass trade beads; two red glass trade beads; and one limpet shell container.

In 1926, human remains representing, at minimum, two individuals were removed by David Banks Rogers from Winchester No. 2 (site CA-SBA-69). One individual is represented by a fragmented mandible and a tibia fragment, and the second individual is represented by a long bone fragment. No known individuals were identified. No associated funerary objects are present.

In 1926 and sometime before 2001, human remains representing, at minimum, eight individuals were removed from Winchester No. 3 (site CA-SBA-71). David Banks Rogers excavated seven sets of human remains in 1926. An additional set of human remains was reported to the police, and was turned over to the SBMNH in 2001. The human remains include four individuals represented by cranial elements; two individuals represented by postcranial elements; and two individuals represented by cranial and postcranial elements. No known individuals were identified. The three associated funerary objects are one Olivella biplicata bead; one strand of beads or ornaments made from Haliotis shell; and one chipped stone knife.

In 1926 and 1932, human remains representing, at minimum, 23 individuals were removed by David Banks Rogers from Tecolote No. 1 (site CA-SBA-72). The human remains include 11 individuals represented by cranial elements; 11 individuals are represented by postcranial elements; and one individual represented by cranial and postcranial elements. No known individuals were identified. The 504 associated funerary objects are: 15 chert projectile points; 351 Olivella biplicata shell beads; one stone ring; one strand of assorted beads; 68 hair ornaments; 10 hair ornament fragments; 37 asphaltum skirt weights; one bone tube fragment; two bone fragments; 13 limpet ornaments; one perforated Olivella biplicata shell; two fragments of unmodified shell; one strand of Olivella biplicata and stone beads; and one piece of ochre.

In 1926, 1929, and the 1980s, human remains representing, at minimum, nine individuals were removed from Tecolote No. 2 (site CA-SBA-73). Five sets of human remains were excavated by David Banks Rogers in 1926; one set of human remains was donated to SBMNH in or around 1926; two sets of human remains were removed by construction workers in 1929; and one set of human remains was removed during unauthorized surface collection in the 1980s. The human remains include six individuals represented by cranial elements; one individual represented by postcranial elements; and two individuals represented by cranial and postcranial elements. No known individuals were identified. No associated funerary objects are present.

Sometime before 1981, human remains representing, at minimum, two individuals were illegally removed by looters from Eagle Canyon (site CA-SBA-76). The Santa Barbara County Sherriff's Department transferred the human remains to the SBMNH in 1981. Both individuals are represented by cranial and postcranial elements. No known individuals were identified. No associated funerary objects are present.

In 1925 and sometime before 1936, 1979, and 2001, human remains representing, at minimum, five individuals were removed from Mikiw (site CA-SBA-78). Two sets of human remains were excavated by David Banks Rogers in 1925, and three sets of human remains were acquired through private donations in 1936, 1979, and 2001. The human remains include three individuals represented by cranial elements; one individual represented by a few cranial and postcranial elements; and one individual represented by a single long bone fragment. No known individuals are identified. The one associated funerary object is a chert projectile point.

In the 1920s, human remains representing, at minimum, two individuals were removed by William A. Edwards from Los Gatos (site CA-SBA-80). The human remains were donated to the SBMNH in 1992. The individuals are represented by numerous fragmentary cranial and postcranial elements. No known individuals were identified. No associated funerary objects are present.

Between 1925 and 1926 and in May of 1962, human remains representing, at minimum, 33 individuals were removed by David Banks Rogers and Harold Cocke from Las Llagas No. 1 (site CA-SBA-81). All the individuals are represented by partial sets of remains. No known individuals were identified. The 188 associated funerary objects are: Eight chert projectile points; one strand of Olivella biplicata beads; 13 mother of pearl ornaments; three sandstone bowls; one shell gorget; 12 strands of assorted shell beads; one sandstone pestle; one bone awl; 140 assorted shell beads; one clam shell ornament; one limpet ornament; four large bone beads; one shell necklace; one strands of limpet hair ornaments.

In 1926, human remains representing, at minimum, eight individuals were removed by David Banks Rogers from Las Llagas No. 2 (site CA-SBA-82). One individual is represented by cranial elements, five individuals by minimal postcranial elements, and two individuals by a single tooth each, one of which has been identified as a sub-adult's tooth. No known individuals were identified. The 543 associated funerary objects are 539 asphaltum skirt weights; two beads; and two shell fragments.

Between 1925 and 1926 and on an unknown date, human remains representing, at minimum, six individuals were removed from El Capitan (site CA-SBA-84 and CA-SBA-117). Five sets of human remains were excavated by David Banks Rogers, one set of human remains were transferred by The University of California, Davis, and one set of human remains was excavated by an unknown person and transferred to the SBMNH in 1991. Three individuals are represented by cranial elements, two individuals are represented by cranial elements and a single postcranial element, and one individual is represented by a long bone fragment in which is embedded a splinter of chert. No known individuals were identified. The 34 associated funerary objects are one charmstone; three bone whistles; 11 ablalone ornaments; 11 shell hair ornaments; one strand of limpet hair ornaments; one strand of assorted beads; one staurotide ornament; four shell ornaments; and one quartz crystal.

In 1926, human remains representing, at minimum, three individuals were removed by David Banks Rogers from Refugio No. 1 (site CA-SBA-86). All three individuals are represented by partial sets of human remains. No known individuals were identified. No associated funerary objects are present.

In 1926, human remains representing, at minimum, six individuals were removed by David Banks Rogers from Qasil (site CA-SBA-87). All six individuals are represented by partial sets of human remains. No known individuals were identified. No associated funerary objects are present.

In the 1950s, human remains representing, at minimum, 12 individuals were removed from Teqepsh (site CA-SBA-477). Based on limited documentation, Albert Mohr and Martin Baumoff carried out the excavation for the University of California Archaeological Survey and the Smithsonian Institution. One individual is represented by a cranium, two individuals are represented by fragmented postcranial elements, and nine individuals are represented by partial sets of human remains. No known individuals were identified. No associated funerary objects are present.

Sometime before 1927, human remains representing, at minimum, three individuals were removed from Osbi (site CA-SBA-512 and CA-SBA-513). All three individuals are represented by cranial elements. No known individuals were identified. No associated funerary objects are present.

In 1950, human remains representing, at minimum, one individual were removed by Mrs. Klein, a private collector, from site CA-SBA-562 in Santa Barbara County, CA. This individual is represented by an incomplete skeleton. No known individuals were identified. No associated funerary objects are present.

In 1930, human remains representing, at minimum, five individuals were removed by Henry Abel and J. G. James from Salisbury Potrero (site CA-SBA-1279). Three sets of human remains were donated to the SBMNH in 1963 and two sets of human remains were donated by Henry Abel's daughter, Sally Speers, in 2006. All five individuals are represented by cranial elements. No known individuals were identified. No associated funerary objects are present.

On unknown dates, human remains representing, at minimum, 54 individuals were removed from unknown locations in Santa Barbara County, CA. These human remains lack sufficient provenience information to associate them with a specific site or locality. One set of human remains was discovered by a construction crew near the Education Building on the SBMNH campus on April 21, 2011, during work to improve handicap accessibility. A second set of human remains was collected by C. Otis Miller in 1931, from a burial (at an unidentified site) near the water's edge on More Ranch, in Goleta. The human remains include 11 individuals represented by cranial elements; 19 individuals represented by postcranial elements; 10 individuals represented by cranial and postcranial elements; and 14 individuals represented by teeth. No known individuals were identified. No associated funerary objects are present.

In May 1927 and sometime before 1960 and 1987, human remains representing, at minimum, 14 individuals were removed from Coches Prietos, Liyam (site CA-SCRI-1), on Santa Cruz Island. Twelve sets of human remains are attributed to excavations conducted by Ronald Olson and David Banks Rogers in May 1927. Two additional sets of human remains were donated to the SBMNH, one in 1960 and one in 1987. Seven individuals are represented by cranial elements and one individual by cranial and minimal postcranial elements. Three individuals are represented by minimal postcranial elements, and three individuals by a single tooth each. No known individuals were identified. The 66 associated funerary objects are: Three pile perch teeth; two stone concretions; two bone fishhooks; two lots of pigment; one small steatite olla; four limpet shell pigment containers; one lot of cordage; one bone whistle; two bone fish barbs; one fragment of a bone implement; eight projectile points; 32 Haliotis ornaments; three strands of beads; one large stone drill; one stone scraper; and two canoe planks.

In 1927, human remains representing, at minimum, 10 individuals were removed by David Banks Rogers from Arch Rock (site CA-SCRI-158), on Santa Cruz Island. Two individuals, including one very old individual, are represented by cranial and minimal postcranial elements. Three individuals are represented by a single postcranial element each one element belongs to a sub-adult. Another element has a projectile point embedded in it. No known individuals were identified. The one associated funerary object is a cowry shell lip ornament.

In June 1927, human remains representing, at minimum, five individuals were removed by David Banks Rogers and Ronald Olson from Christy Beach Site 4W, Ch'oloshush (CA-SCRI-236), on Santa Cruz Island. Three of the individuals are represented by cranial elements, and the other two individuals by minimal postcranial elements. No known individuals were identified. The 169 associated funerary objects are: One sample of pigment; one abalone shell containing black pigment; one abalone shell containing red pigment; one chert drill; three plank canoe fragments; 11 fragments of asphaltum basketry impressions; one piece of seagrass cordage; one projectile point; two strands of beads; 147 fragments of shell and shell beads.

In 1936, 1947, and 1950, human remains representing, at minimum, eight individuals were removed by David Banks Rogers and Phil C. Orr from Prisoner's Harbor, Xaxas (site CA-SCRI-240), on Santa Cruz Island. Seven individuals are represented by cranial elements, and the other individual, a sub-adult, is represented by two teeth. No known individuals were identified. The 1514 associated funerary objects are: Four crystals; four gravers; two seal teeth; nine shell discs; two spiral shell beads; 80 gravers; one stone pipe; two glass beads; one shell container; one abalone ornament; 484 shell beads; two fluorite beads; 22 bone tool or ornament fragments; one soap root brush; one steatite bowl fragment; one projectile point; two asphaltum plugs; one asphaltum handle; one stone scraper; 36 tube beads; two musket ramrod thimbles; and 855 glass trade beads.

In 1927, human remains representing, at minimum, four individuals were by removed by Ronald Olson and David Banks Rogers from site CA-SCRI-253 (Christy Beach Site 4, Ch'oloshush), on Santa Cruz Island. Two individuals are represented by cranial elements, one individual is represented by a femur, and one individual is represented by three teeth. No known individuals were identified. The 68 associated funerary objects are: One projectile point; one pestle; four strands of shell beads; one strand of stone beads; six shell fragments; 10 shells; 19 shell beads; one bone barb; and 25 fishhook blanks.

In 1927, human remains representing, at minimum, 42 individuals were removed by Ronald Olson and David Banks Rogers from sites CA-SCRI-257 and CA-SCRI-191 (Christy Beach Site 3), on Santa Cruz Island. Eighteen individuals—one is a sub-adult—are represented only by cranial elements. Nineteen individuals -one is a sub-adult—are represented by postcranial elements. Five individuals are represented by cranial and postcranial elements. No known individuals were identified. The 41 associated funerary objects are: two staurotide beads; four bone beads; one claw bead; one fishhook; 15 limpet ornaments; three bone tools; and 15 abalone ornaments.

In August 1932, human remains representing, at minimum, one individual were removed by Dr. Richard Van Valkenburgh from site CA-SCRI-333 (El Montón, Fraser Point, Forney Cove), on Santa Cruz Island. The human remains were donated to the SBMNH by Dr. Roy L. Moodie. The human remains are represented by a complete skeleton. No known individuals were identified. No associated funerary objects are present.

In August 1976, human remains representing, at minimum, one individual were removed by Dr. Carey Stanton from site CA-SCRI-383 (Christy Beach), on Santa Cruz Island. The human remains were donated to the SBMNH in January 1991. The human remains are represented by two teeth and fragments of cranial and postcranial elements. No known individuals were identified. The 15 associated funerary objects are one steatite bowl and 14 pieces of stone debris.

In 1983, human remains representing, at minimum, one individual were removed illegally from site CA-SCRI-436 (West Valdez No. 1), on Santa Cruz Island. The human remains were confiscated by the Santa Barbara County Sheriff's Department and transferred to the SBMNH in July 1986. The human remains are represented by two teeth. No known individuals were identified. No associated funerary objects are present.

In 1927 and sometime between 1982 and 1986, human remains representing, at minimum, three individuals were removed from site CA-SCRI-437 (West Valdez No. 2), on Santa Cruz Island. One set of human remains was removed by David Banks Rogers. Two additional sets of human remains that had been removed illegally, were confiscated by the Santa Barbara County Sheriff's Department and transferred to the SBMNH in July 1986. The human remains are represented by postcranial elements. No known individuals were identified. No associated funerary objects are present.

Around 1984, human remains representing, at minimum, one individual were removed illegally from site CA-SCRI-444 (Hazard's No. 1), on Santa Cruz Island. The human remains were confiscated by the Santa Barbara County Sheriff's Department and transferred to the SBMNH in July 1986. The human remains are represented by a single cranial fragment. No known individuals were identified. No associated funerary objects are present.

In July 1927, human remains representing, at minimum, two individuals were removed by David Banks Rogers from site CA-SCRI-445 (Valdez), on Santa Cruz Island. The human remains are represented by cranial elements. No known individuals were identified. No associated funerary objects are present.

In July 1927, human remains representing, at minimum, two individuals were removed by David Banks Rogers and Ronald Olson from site CA-SCRI-496 (Willows), on Santa Cruz Island. The human remains are represented by cranial elements. No known individuals were identified. No associated funerary objects are present.

In July 1927, human remains representing, at minimum, one individual were removed by David Banks Rogers from a site at Baby's Harbor (SCRI-178), on Santa Cruz Island. The human remains are represented by cranial elements. No known individuals were identified. No associated funerary objects are present.

Around 1929, human remains representing, at minimum, one individual were removed by David Banks Rogers from a site at Albert's Anchorage, on Santa Cruz Island. The human remains are represented by postcranial elements. No known individuals were identified. No associated funerary objects are present.

In 1981, human remains representing, at minimum, one individual were removed by a ranch worker from a site called Mount Diablo, on Santa Cruz Island. The human remains are represented by a partial cranium. No known individuals were identified. No associated funerary objects are present.

In the early 1980s, human remains representing, at minimum, five individuals were removed illegally from an unrecorded site near Alamos, on Santa Cruz Island. The human remains are represented by cranial elements. They were confiscated by the Santa Barbara County Sheriff's Department and transferred to the SBMNH in July 1986. No known individuals were identified. No associated funerary objects are present.

On an unknown date, human remains representing, at minimum, three individuals were removed from unprovenanced locations on Santa Cruz Island. The human remains are represented by teeth, cranial elements, and an incomplete skeleton. No known individuals were identified. No associated funerary objects are present.

In 1947, human remains representing, at minimum, one individual were removed by Phil C. Orr from CA-SRI-1 (Garañon Point), on Santa Rosa Island. The human remains are represented by a relatively complete skeleton. No known individuals were identified. The 737 associated funerary objects are one shell dish; one shell strand; eight shell beads; three bone fragments; one pearl; 28 faunal remains; 653 shell bead fragments; 23 whale bone implements; and 19 shell ornaments.

Between 1948 and 1958, human remains representing, at minimum, 177 individuals were removed by Phil C. Orr from CA-SRI-2A and CA-SRI-2B (Skull Gulch) and CA-SRI-2 (Unspecified Cemetery) on Santa Cruz Island. Of the 24 individuals removed from CA-SRI-2A: Eight individuals are represented by cranial elements; four individuals are represented by complete skeletons; three individuals are represented by relatively complete skeletons; six individuals which include one sub-adult and three fetuses—are represented by postcranial elements; two individuals are represented by teeth; and one individual is represented by an infant burial encased in latex. Of the 140 individuals removed from CA-SRI-2B: 96 individuals are represented by cranial elements; four individuals are represented by cranial and postcranial elements; 11 individuals are represented by postcranial elements; three individuals—which include one infant and one sub-adult—are represented by partial skeletons; five individuals are represented by relatively complete skeletons; 13 individuals are represented by complete skeletons; two individuals are represented by fetal/infant skeletons; one individual is represented by human remains encased in plaster with artifacts; and five individuals are represented by teeth. Of the 13 individuals removed from CA-SRI-2 (Unspecified Cemetery): 11 individuals are represented by postcranial elements; one individual is represented by a vertebral column; and one individual is represented by a long bone fragment. The human remains cannot be assigned to a specific cemetery due to insufficient data. No known individuals were identified. The 7584 associated funerary objects are: 5790 beads and bead fragments; 45 bead strands; 13 asphaltum samples; four projectile points; one bone bead; five shell fishhooks; one abalone container; five seed samples; 40 shell fragments; two knives; eight stone beads; six fish vertebrae; four midden samples; one bone bipoint; 25 pendants/ornaments; 818 gravers; 16 bladelets; 26 pieces of ochre; one ochre sample; 18 bone fragments; 480 pieces of charcoal; one charcoal sample; one steatite bowl; one bag of faunal material; two donut stones; one sea mammal tooth; 10 chert drills; one tooth; three pieces of seagrass matting; one seagrass skirt; one bag of skirt weights; one pebble; two bone artifacts; one wood handle; one worked wood piece; one shark tooth; 12 wood fragments; one sandstone pestle; one container; one bone pry bar; one scraper; one piece of seagrass cordage; three shell artifacts; one flake; six chipped stone fragments; 24 Olivella biplicata shells; and 196 pieces of charcoal, bone, and shell.

In 1949, 1950, and 1951, human remains representing, at minimum, 64 individuals, were removed from CA-SRI-3A and CA-SRI-3B (Tecolote Point), on Santa Rosa Island. 50 individuals are represented by cranial elements; three individuals are represented by complete skeletons; five individuals are represented by partial skeletons; and six individuals are represented by cranial elements with postcranial elements. The 1056 associated with funerary objects are: 654 beads and bead fragments; three bead strands; one bone strigil; five samples of pigment-stained sand; five abalone shells and shell fragments; two shell dishes; 151 Olivella biplicata beads with traces of red pigment; five donut stones; 118 asphaltum fragments; one bone hairpin; one abalone dish with pigment-stained sand; one crab claw; three mussel fragments; three limpet shells, 66 pieces of charcoal; one obsidian drill/knife; two bone bipoints; two pieces of modified bone; two awls; three wedges; six chert flakes; one incised gull ulna pin; six bone pry bars; four asphaltum basketry impressions; one shell ornament; five bone tools; one stone tool in asphaltum; one chert bipoint; one hipped stone drill; and one stone tool.

In 1947, human remains representing, at minimum, two individuals were removed by Phil C. Orr from CA-SRI-4 (Arlington Dunes), on Santa Rosa Island. Both individuals are represented by cranial elements. No known individuals were identified. No associated funerary objects are present.

In 1948 and 1949 and in the 1960s, human remains representing, at minimum, 11 individuals were removed by Phil C. Orr from CA-SRI-5A and CA-SRI-5C (Survey Point) and CA-SRI-5 (Unspecified Cemetery), on Santa Rosa Island. Two individuals were collected from an eroding midden at CA-SRI-5 (Unspecified Cemetery), located along the mouth of Arlington Canyon, on Santa Rosa Island. The human remains were brought to the SBMNH in 2010. Eight individuals from CA-SRI-5A are represented by cranial elements. No known individuals were identified. The 614 associated funerary objects are three bone whistles; 37 shell ornaments; 474 shell beads and bead fragments; 64 shell beads and ornaments; seven bead strands; three bead and ornament strands; one bird bone fragment; one chipped stone knife; one bone awl; 19 ornaments; one bone whistle; two pendants; and one donut stone.

At an unknown date, human remains representing, at minimum, three individuals were removed from CA-SRI-6 (Arlington Point), on Santa Rosa Island. One individual is represented by postcranial fragments and two individuals are represented by a relatively complete postcranial skeleton and a second right femur fragment. The human remains were donated to the SBMNH by Mrs. Margaret Wooley in 1994. No known individuals were identified. No associated funerary objects are present.

At an unknown date, human remains representing, at minimum, 11 individuals were removed from CA-SRI-9A (Arlington Cave), on Santa Rosa Island. Three individuals—which include one sub-adult—are represented by cranial elements; one individual is represented by a postcranial fragment; three individuals are represented by relatively complete skeletons; and four individuals—which include one skeleton incased in plaster and two infant skeletons incased in plaster and matrix are represented by complete skeletons. The 66 associated funerary objects are two doughnut stones, 56 shell beads, three Haliotis dishes, four unmodified shells, and one basket holding the infant burial that is encased in plaster.

In 1948, human remains representing, at minimum, one individual were removed by Phil C. Orr from CA-SRI-24, on Santa Rosa Island. This individual is represented by a partial skeleton. The 11 associated funerary objects are: Two shell bead strands; one abalone ornament; six shell beads; and two small stones.

In 1948, 1949, 1951, 1957, and 1961, human remains representing, at minimum, 108 individuals were removed by Phil C. Orr from CA-SRI-41A (Cañada Verde Dunes), on Santa Rosa Island. 63 individuals—which include 13 sub-adults—are represented by cranial elements; seven individuals—which include one infant and one sub-adult—are represented by post-cranial elements; 13 individuals—which include two sub-adults—are represented by cranial elements with post-cranial elements; one individual is represented by a tooth and postcranial elements; six individuals are represented by complete skeletons; four individuals—which include two sub-adults—are represented by a relatively complete skeleton; 13 individuals—which include one infant and one-sub-adult—are represented by a partial skeleton; and one individual is represented by several undifferentiated fragments. The 13053 associated funerary objects are: 11925 shell beads and bead fragments; 12 incised bone fragments; three bone bipoints; 99 clam shell pendants; one piece of red pigment; 112 abalone pendants/ornaments; two bone tools; three samples of charcoal; five shell bead strands; five bone whistles; 10 abalone shell rings; 24 shell pendants; 14 bone awls; four unmodified land snail; 26 bone pendants/ornaments; 128 stone beads; 10 steatite pendants; 383 bone beads and bead fragments; one decorated pendant with ochre staining; 20 charcoal pieces; 16 chert projectile points and point fragments; nine pieces of asphaltum; two bone whistle fragments; four steatite rings; two abalone shell fragments; three steatite elbow pipes; one abalone spangle; 10 animal bones/teeth; one steatite charmstone; one Olivella bead headband (in fragments); one projectile point hafted in elk antler; two bone tubes; one stone bead strand; one serpentine pendant; two tarring pebbles; 13 fragments of engraved bone tools; one donut stone; nine shell fragments; one shell with ochre; 18 bone fragments with ochre staining; one flaked chert tool; three pieces of unworked chert; one crab claw; 28 abalone shell beads and ornaments inlaid into asphaltum; 31 limpet shell ornaments; one bone disc; three ochre samples; 15 bird bones with asphaltum; two perforated stones; one striated pebble; one chipped stone hammer; one chert drill; one abrader; one chert knife/scraper; one unsorted midden sample; one Thais shell; one bone pin; seven abalone dishes/containers; 15 quartz crystals; one chert flake; 28 charcoal/asphaltum fragments; and 24 pieces of shell, stone, bone, and charcoal.

In 1957, human remains representing, at minimum, one individual were removed by Phil C. Orr from CA-SRI-41B (Cañada Verde), on Santa Rosa Island. This individual is represented by a partial cranium. The eight associated funerary objects are one bone bead, one clam shell bead, one unmodified Olivella biplicata shell bead, one spire-ground Olivella biplicata shell bead, one Olivella biplicata shell disc bead, and three Olivella biplicata shell barrel beads.

In 1951, human remains representing, at minimum, one individual were removed by Phil C. Orr from CA-SRI-41C (Cañada Verde, Cemetery C), on Santa Rosa Island. This individual is represented by a cranium and mandible. No known individuals were identified. No associated funerary objects are present.

In 1961, human remains representing, at minimum, one individual were removed by Phil C. Orr from CA-SRI-41X (Cañada Verde, Cemetery X), on Santa Rosa Island. This individual is represented by a relatively complete skeleton. The 268 associated funerary objects are 205 shell artifacts, 13 awls, one bone tool, five fragments of unmodified bone, 10 cores, 24 projectile points, one knife, one steatite cup, one doughnut stone, one asphaltum cake, four samples of pigment-stained sand, and two bone hairpins.

In 1957, human remains representing, at minimum, six individuals were removed by Phil C. Orr from CA-SRI-43A (Fox), on Santa Rosa Island. Two individuals—which include one sub-adult—are represented by cranial and postcranial elements; one individual is represented by postcranial remains; and three individuals are represented by complete skeletons. The 10 associated funerary objects are one abalone shell, two projectile points, one doughnut stone, one swordfish sword with carved handle, three tarring pebbles, and two bone tools.

In August 1927, human remains representing, at minimum, 20 individuals were removed by David Banks Rogers from CA-SRI-60 (Rancho House Canyon, Hichimin), on Santa Rosa Island. 11 individuals—which include one sub-adult—are represented by cranial elements; seven individuals—which include one sub-adult—are represented by postcranial elements, one of which has an arrowhead embedded in it; and two individuals—a sub-adult and an infant—are represented by teeth. The 1550 associated funerary objects are 851 Olivella beads and bead fragments/blanks; one asphaltum skirt weight; two biface fragments; two chert flakes; 34 drills; two clam shell ornaments; 45 abalone ornament fragments; two Megathura crenulata ornaments; one worked abalone rim fragment; one bone bipoint; two bone artifacts; three abalone tube beads; one dentalium tube bead; one unworked shell fragment; four chert knives; one arrowhead; two fishhook blanks; 296 bladelet drills; one bone pin; one bone whistle; one piece of twisted cordage; eight large clam tube beads; one strand of abalone beads; 226 shell bead fragments; seven fragments of eel grass matting; four bone tools; one abalone fishhook; one pierced piece of steatite; one rim fragment of a cup; one strand of stone and shell beads; two limpet ornaments; one abalone ornament; one bone awl; five chert points; one piece of hand forged metal; and 36 pendants and ornaments.

At an unknown date, human remains representing, at minimum, one individual were removed from CA-SRI-61 (Skunk Point), on Santa Rosa Island. The human remains were given to Harold J. Bell of Camarillo by the then-foreman of the Vail and Vickers Ranch, and were subsequently donated to the SBMNH by Patricia Bell in 1987. The human remains are represented by a cranium and mandible. No known individuals were identified. No associated funerary objects are present.

In 1927 and 1950, human remains representing, at minimum, 11 individuals were removed by David Banks Rogers (1927) and Phil C. Orr (1950) from CA-SRI-62 (Johnson's Lee, “Nilal'uy”), on Santa Rosa Island. Three individuals—which include two sub-adults—are represented by cranial elements; three individuals—which include one infant—are represented by postcranial elements; one individual, a sub-adult, is represented by cranial elements with postcranial elements; and four individuals—which include one sub-adult—are represented by complete skeletons. No known individuals were identified. The 176 associated funerary objects are one fragment of a pear-shaped donut stone; one glass bead; one abalone fishhook; one maul; four worked bone artifacts; two unworked bone artifacts; one donut stone; four pieces of unwoven eel grass which were wrapped around the burials; 96 shell beads and bead blanks/fragments; one charcoal sample; one sandstone basket mortar; one abalone shell fragment; one abalone pendant; one Mitra idae shell; one abalone shell; one fishhook fragment; one pestle; one fish jaw ornament; 55 bone tube fragments; and one stone ornament.

At an unknown date, human remains representing, at minimum, four individuals were removed from CA-SRI-63 (Johnson's East), on Santa Rosa Island. Beginning in 1950, the site was heavily impacted by the construction of a U.S. Air Force base. The remains were possibly recovered by Air Force personnel; however, there were no field notes from this salvage work that could be located. The four individuals are represented by partial crania, one of which is burned. No known individuals were identified. No associated funerary objects are present.

On October 4, 1952, human remains representing, at minimum, one individual were removed by Phil C. Orr from CA-SRI-72 (South of SE Anchorage), on Santa Rosa Island. This individual is represented by cranial elements. No known individuals were identified. No associated funerary objects are present.

In 1927, human remains representing, at minimum, three individuals were removed by David Banks Rogers from CA-SRI-78 (Water Canyon), Santa Rosa Island. One very old individual is represented by a mandible; one individual is represented by cranial elements and 13 teeth; and one individual is represented by a phalanx. The eight associated funerary objects are one strand of shell, bone, and stone beads and seven shell bead fragments.

In 1949, human remains representing, at minimum, three individuals were removed from CA-SRI-128 (Pemberton No. 1 Well), on Santa Rosa Island. Two sets of human remains are attributed to Orr's excavations in 1949 and one set of human remains was likely salvaged by oil drilling crews. The three individuals are represented by partial crania. No known individuals were identified. No associated funerary objects are present.

In 1959, human remains representing, at minimum, one individual were removed by Phil C. Orr from CA-SRI-168 (Mess Cave), on Santa Rosa Island. This individual is represented by six rib fragments and strands of human hair. No known individuals were identified. No associated funerary objects are present.

In late 1960, human remains representing, at minimum, one individual were removed by Phil C. Orr from CA-SRI-173 (Arlington Springs), on Santa Rosa Island. This individual is represented by two partial femora, including one encased in a soil matrix. No known individuals were identified. No associated funerary objects are present.

In 1958, human remains representing, at minimum, 22 individuals were removed by W. Banning Vail from an unknown location a few miles west of Ranch House, on Santa Rosa Island. These human remains were donated by Vail to the SBMNH in 1983. The human remains include cranial elements, teeth, postcranial elements, and additional unidentified fragments of bone. The minimum number of individuals was determined by the presence of 22 right scapulae. No known individuals were identified. No associated funerary objects are present.

At an unknown date, human remains representing, at minimum, five individuals, were removed from unknown sites on Santa Rosa Island (NA-CA-SRI-XX-12-1 through NA-CA-SRI-XX-12-5). One set of remains was donated by Margaret Wooley in 1994. One set of remains was donated to the SBMNH in 2001 by Ed McGowan, who had obtained them from the estate of geologist Helmut Ehrenspeck, in the 1970s. One set of remains was donated to the SBMNH in 2001 by Cinda Shedore, who had obtained them from a rancher on Santa Rosa Island. One set of remains was donated to the SBMNH in 2008 by E.R. Blakley. One set of remains was discovered by Raymond Winters's uncle in the 1940s and was later donated to the Museum by Mr. Winters in 2007. Four individuals are represented by cranial elements and one individual is represented by cranial and postcranial elements. No known individuals were identified. The 82 associated funerary objects are one Olivella biplicata barrel bead, one strand of shell beads, 77 bead fragments, one Haliotis pendant, one Tivela stultorum ornament, and one worked ground stone artifact.

Ventura County

On a date prior to 1998, human remains representing, at minimum, four individuals were removed from Simomo (site CA-VEN-24). The human remains were donated to the SBMNH in 1998 by Ed Mercurio. The individuals are represented by cranial and postcranial elements. No known individuals were identified. No associated funerary objects are present.

Sometime between May 7 and June 26, 1942, human remains representing, at minimum, 16 individuals were removed by Phil C. Orr from Soule Ranch (site CA-VEN-61). The individuals are represented by cranial and postcranial elements. No known individuals were identified. The 110 associated funerary objects are one bone awl, one bone tube bead, three abalone beads, two stone bowls, 14 decorated bone tube fragments, 53 Olivella beads, one biface, one stone weight, one perforated tooth, one strand of shell beads with a tooth, five whistle fragements, one bone implement, 20 bone tube fragments, one stone sphere, one steatite mortar, one Trivia californiana shell, one Cerithidea sp. horn shell, one turtle shell in fragments, and one bone hairpin.

Sometime in the 1960s, human remains representing, at minimum, 12 individuals were removed by Robert O. Browne from the Browne site (CA-VEN-150). The human remains were transferred to the SBMNH in 2005. The individuals—which include one sub-adult—are represented by cranial and postcranial elements. No known individuals were identified. No associated funerary objects are present.

On an unknown date before 1998, human remains representing, at minimum, one individual were removed from Chumash Park (site CA-VEN-165). The human remains were donated to the SBMNH by Ed Mercurio in 1998. The individual is represented by a fragmented mandible with fragmented postcranial elements. No known individuals were identified. No associated funerary objects are present.

In 1937, human remains representing, at minimum, one individual were removed by John G. Dalton from an unknown location near Ojai. The individual is represented by cranial and postcranial elements. No known individuals were identified. No associated funerary objects are present.

In August 1931, human remains representing, at minimum, one individual were removed by C. Otis Miller from Lake Sherwood. The individual is represented by cranial elements. No known individuals were identified. No associated funerary objects are present.

In 1983, human remains representing, at minimum, one individual were removed by Ken Ritzi from an unknown location in Oxnard. The human remains were donated to the SBMNH by Ken Ritzi in 2012. The individual is represented by a femur fragment. No known individuals were identified. The one associated funerary object is a pestle.

On an unknown date, human remains representing, at minimum, two individuals were removed from an unknown location in Ventura County. The individuals are represented by one mandible and three unassociated loose teeth. No known individuals were identified. No associated funerary objects are present.

San Luis Obispo County

In late October or early November 1968, human remains representing, at minimum, one individual were removed from Shell Beach (site CA-SLO-58). The human remains were donated to the SBMNH by Gregory Garman of Centralia College. The individual is represented by a fragmentary cranium and mandible with minimal postcranial elements. No known individuals were identified. No associated funerary objects are present.

On an unknown date, human remains representing, at minimum, one individual were removed from Morro Bay Mesa. The human remains were labeled with “N. of Main St., Moro Bay Mesa, Overlooking Moro Rock.” The individual is represented by a cranium and mandible. No known individuals were identified. No associated funerary objects are present.

In March 1935, human remains representing, at minimum, one individual were removed from near Morro Bay and the Standard Oil Plant. The human remains were discovered by Mrs. Bennie Martinez, who donated them to the SBMNH. The individual is represented by a cranium. No known individuals were identified. No associated funerary objects are present.

Sometime prior to 1954, human remains representing, at minimum, one individual were removed from site CA-SLO-834, one mile east of Atascadero, San Luis Obispo County, CA. The human remains were donated to the SBMNH by Major George Mansfield in 1954. The individual is represented by a vertebra. No known individuals were identified. No associated funerary objects are present.

Los Angeles County

On an unknown date, human remains representing, at minimum, one individual were removed from Solstice Canyon. The human remains were found in Phil Orr's personal collection, and were donated to the SBMNH. The individual is represented by a cranium and a mandible. No known individuals were identified. No associated funerary objects are present.

Sometime prior to 1998, human remains representing, at minimum, two individuals were removed from unknown locations in Los Angeles County. According to the labeling, the origin of the human remains is, variously, “Agoura” and the “Santa Monica Mtns. Coast, west of Zuma Beach.” The human remains were donated to the SBMNH by Ed Mercurio in 1998. One individual is represented by teeth, and the other individual is represented by a fragmentary cranium. No known individuals were identified. No associated funerary objects are present.

The majority of the human remains and associated funerary objects listed in this notice date to three periods in prehistory recognized by archeologists working the Santa Barbara Channel region: Early Period (9,000 to 3,000 years ago), Middle Period (3,000 to 800 years ago), and Late Period (800 to 200 years ago). Linguistic, archeological, and biological evidence demonstrate many millennia of Chumash cultural presence in the Santa Barbara region, beginning in the Early Period. A cultural affiliation study completed for the National Park Service in 1999 demonstrated that Chumash communities in the twentieth century possess continuity with identifiable earlier groups that inhabited the Santa Barbara Channel region at the time of European contact and settlement. The only federally recognized tribe of Chumash Indians today is the Santa Ynez Band of Mission Indians. Some individual members of the federally recognized Tejon Indian Tribe also possess Chumash ancestry.

Determinations Made by the Santa Barbara Museum of Natural History

Officials of the Santa Barbara Museum of Natural History have determined that:

• Pursuant to 25 U.S.C. 3001(9), the human remains described in this notice represent the physical remains of 1,011 individuals of Native American ancestry.

• Pursuant to 25 U.S.C. 3001(3)(A), the 36,943 objects described in this notice are reasonably believed to have been placed with or near individual human remains at the time of death or later as part of the death rite or ceremony.

• Pursuant to 25 U.S.C. 3001(2), there is a relationship of shared group identity that can be reasonably traced between the Native American human remains and associated funerary objects and the Santa Ynez Band of Chumash Mission Indians of the Santa Ynez Reservation, California.

Additional Requestors and Disposition

Lineal descendants or representatives of any Indian Tribe or Native Hawaiian organization not identified in this notice that wish to request transfer of control of these human remains and associated funerary objects should submit a written request with information in support of the request to Luke Swetland, President and CEO, Santa Barbara Museum of Natural History, 2559 Puesta del Sol, Santa Barbara, CA 93105, telephone (805) 682-4711, by November 2, 2020. After that date, if no additional requestors have come forward, transfer of control of the human remains and associated funerary objects to the Santa Ynez Band of Chumash Mission Indians of the Santa Ynez Reservation, California may proceed.

The Santa Barbara Museum of Natural History is responsible for notifying the Santa Ynez Band of Chumash Mission Indians of the Santa Ynez Reservation, California that this notice has been published.

Dated: September 22, 2020.
Melanie O'Brien,
Manager, National NAGPRA Program.

[FR Doc. 2020-21705 Filed 9-30-20; 8:45 am]

BILLING CODE 4312-52-P